SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before October 14, 2008.

ADDRESSES: Send all comments regarding whether this information collection is necessary for the proper performance of the function of the agency, whether the burden estimates are accurate, and if there are ways to minimize the estimated burden and enhance the quality of the collection, to Delcine Montgomery, Business Development Specialist, Office of Native American Affairs, Small Business Administration, 409 3rd Street, SW., 6th Floor, Washington, DC 20416.

FOR FURTHER INFORMATION CONTACT: Delcine Montgomery, Business Development Specialist, Office of Native American Affairs, 202-205-6195, delcine.montgomery@sba.gov, Curtis B. Rich, Management Analyst, 202-205-7030, curtis.rich@sba.gov.

SUPPLEMENTARY INFORMATION: The U.S. Small Business Administration, Office of Native American Affairs (ONAA), is continuing a Native American initiative that will provide Native American Tribes economic development through the use of the Tribal Self Assessment Tool.

Title: “Tribal Self Assessment Tool.”

Description of Respondents: Native Americans.

Form Number: N/A.

Annual Responses: 1,000.

Annual Burden: 2,000.

Jacqueline White,
Chief, Administrative Information Branch.

[FR Doc. E8-18704 Filed 8-12-08; 8:45 am]

BILLING CODE 8025-01-P